NATIONAL AERONAUTICS AND SPACE ADMINISTRATION

[Notice: (19-056)]

NASA Advisory Council; Science Committee; Meeting.

AGENCY: National Aeronautics and Space Administration.

ACTION: Notice of meeting.

SUMMARY: In accordance with the Federal Advisory Committee Act, as amended, the National Aeronautics and Space Administration (NASA) announces a meeting of the Science Committee of the NASA Advisory Council (NAC). This Committee reports to the NAC. The meeting will be held for the purpose of soliciting, from the scientific community and other persons, scientific and technical information relevant to program planning.

DATES: Friday, October 18, 2019, 1:00-3:00 p.m., Eastern Time.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public telephonically and by WebEx. You must use a touch-tone phone to participate in this meeting. Any interested person may dial the toll free number 1-888-469-1762 or toll number 1-212-287-1653, passcode 8281293 followed by the # sign, to participate in this meeting by telephone. The WebEx link is https://nasaenterprise.webex.com; the meeting number is 904 615 112 and the password is SC@Oct2019 (case sensitive). The agenda for the meeting includes the following topics:

—Science Mission Directorate Missions, Programs and Activities

It is imperative that the meeting be held on these dates to the scheduling priorities of the key participants.

Carol Hamilton,
Acting Advisory Committee Management Officer, National Aeronautics and Space Administration.

[FR Doc. 2019-21130 Filed 9-27-19; 8:45 am]

BILLING CODE 7510-13-P